DEPARTMENT OF ENERGY

Federal Energy Regulatory Commission

[Project No.: P-2146-111]

Alabama Power Company; Notice of Application and Applicant-Prepared EA Accepted for Filing, Soliciting Motions to Intervene and Protests, and Soliciting Comments, and Final Recommendations, Terms and Conditions, and Prescriptions

June 6, 2008.

Take notice that the following hydroelectric application and applicant-prepared environmental assessment has been filed with the Commission and is available for public inspection.

a. Type of Application: New Major License.

b. Project No.: P-2146-111.

c. Date filed: July 28, 2005.

d. Applicant: Alabama Power Company.

e. Name of Project: Coosa River Hydroelectric Project, which includes the Weiss, H. Neely Henry, Logan Martin, Lay and Bouldin developments, the Mitchell Hydroelectric Project (P-82), and the Jordan Hydroelectric Project (P-618). Alabama Power Company (Alabama Power) has requested that Project Nos. 2146, 82, and 618 be consolidated into one project. We are processing these three projects under Project No. 2146-111.

f. Location: On the Coosa River, in the states of Alabama and Georgia. The Logan Martin development affects less than an acre of federal lands, the Lay development affects 133.5 acres of federal lands, the Mitchell Project affects 127.3 acres of federal lands, and the Jordan Project affects 10.1 acres of federal lands.

g. Filed Pursuant to: Federal Power Act 16 U.S.C. 791(a)-825(r)

h. Applicant Contact: Mr. Jerry L. Stewart, Senior Vice President and Senior Production Officer, Alabama Power Company, 600 North 18th Street, P.O. Box 2641, Birmingham, AL 35291-8180.

i. FERC Contact: Janet Hutzel, Telephone (202) 502-8675, and e-mail janet.hutzel@ferc.gov

j. Deadline for filing motions to intervene and protests, comments, and final recommendations, terms and conditions, and prescriptions is 60 days from the issuance date of this notice; reply comments are due 105 days from the issuance date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene, protests, comments, recommendations, terms and conditions, and prescriptions may be filed electronically via the Internet in lieu of paper. The Commission strongly encourages electronic filings. See 18 CFR 385.2001(a)(1)(iii) and the instructions on the Commission's Web site (http://www.ferc.gov) under the “e-Filing” link.

k. This application has been accepted for filing.

l. The proposed Coosa River Project would consist of seven developments. The Weiss, H. Neely Henry, and Logan Martin developments would operate in peaking mode. The Lay, Mitchell, Jordan, and Bouldin developments would operate in run-of-river mode. The total capacity for all developments is 960.9 megawatts (MW). The project works would include the following:

Weiss Development

The Weiss development consists of: (1) A total of 30,798 feet of water retaining structures which includes a diversion dam and gated spillway, powerhouse about 3.5 miles from the spillway, and earth embankments consisting of: (a) A 7,000-foot-long power canal which carries water from the main reservoir to the powerhouse forebay, (b) a 1,300 foot-long tailrace canal which carries water from the tailrace to the Coosa River, (c) 1.7-mile-long east and 1.8-mile-long west earthfill embankments, extending from the powerhouse, (d) 1.35-mile-long east and 1.0-mile-long west earth embankments extending from the spillway, (e) three freeboard dikes, (f) 120-foot-long and 140-foot-long concrete gravity non-overflow structures to the left and right of the powerhouse, (g) a retaining wall to the left of the spillway and a non-overflow structure to the right of the spillway, (h) a concrete gated spillway equipped with five 40-foot-wide by 38-foot-high Tainter gates and one 16-foot-wide by 22-foot-high Tainter gate which serves as a trash gate, (i) a second trash gate of same dimension located to the right of the powerhouse, and (j) a 20-mile-long bypassed reach of the Coosa River; (2) a 52-mile-long, 30,200-acre reservoir at normal pool elevation 564 feet mean sea level (msl), and total storage capacity of 704,404 acre-feet at maximum elevation 574 feet msl; (3) a 256-foot-long concrete power house with a total rated capacity of 87.75 MW; (4) trashracks located at the turbine intakes with 6-inch bar spacing; (5) a substation; and (6) other appurtenances. The project annually generates an estimated 215,500 megawatt-hours (MWh) of energy.

H. Neely Henry Development

The H. Neely Henry development consists of: (1) A total of 4,705 feet of water retaining structures, which includes a concrete dam and two earthen embankment sections consisting of: (a) A 305-foot-long spillway equipped with six 40-foot-wide by 29-foot-high Tainter gates, (b) a 300-foot-long intake section, (c) a 120-foot-long non-overflow bulk head section at the east end of the spillway, and (d) a 133-foot-long non-overflow section at the west end of the spillway; (2) a 78-mile-long, 11,235-acre reservoir at normal pool elevation 508 feet msl, with a total storage capacity of 30,640 acre-feet at normal elevation 508 feet msl; (3) a 300-foot-long concrete power house with a total rated capacity of 72.9 MW; (4) trashracks located at the turbine intakes with 6-inch bar spacing; (5) a substation; and (6) other appurtenances. The project annually generates an estimated 210,700 MWh of energy.

Logan Martin Development

The Logan Martin development consists of: (1) A total of 6,192 feet of water retaining structures, which includes a 100-foot-high concrete dam and gated spillway, a powerhouse and earthen embankment section consisting of: (a) A 327-foot-long concrete spillway equipped with six 40-foot-wide by 38-foot-high Tainter gates, and one 17.5-foot-wide by 21-foot-high vertical trash gate, (b) a 4,650-foot-long east earth embankment, (c) 850-foot-long west earth embankment, (d) a 120-foot-long concrete powerhouse intake; (2) a 48.5-mile-long, 15,263-acre reservoir at normal pool elevation 465 feet msl, with a total storage capacity of 273,500 acre-feet at normal elevation 465 feet msl; (3) a 295-foot-long concrete power house with a total rated capacity of 128.25 MW; (4) trashracks located at the turbine intakes with 6-inch bar spacing; (5) a substation; and (6) other appurtenances. The project annually generates an estimated 400,200 MWh of energy.

Lay Development

The Lay development consists of: (1) A total of 2,120 feet of water retaining structures, which includes a concrete dam and gated spillway, integrated powerhouse, and an earthen embankment section consisting of: (a) A 194-foot-long concrete bulkhead, (b) a 304-foot-long concrete intake section, (c) a 930-foot-long gated concrete spillway section equipped with twenty-six 30-foot-wide by 17-foot-high radial lift gates, (d) a 180-foot-long concrete bulkhead, and (e) a 512-foot-long earth embankment; (2) a 48.2-mile-long, 12,000-acre reservoir at normal pool elevation 465 feet msl; (3) a 376-foot-long concrete powerhouse with a total rated capacity of 177 MW; (4) a total of 144 trashracks located at the turbine intakes with 6-inch bar spacing; (5) a substation and (6) other appurtenances. The project annually generates an estimated 639,445 MWh of energy.

Mitchell Development

The Mitchell development consists of: (1) A total of 1,264 feet of water retaining structures, which includes a concrete dam and gated spillway, and two powerhouses consisting of: (a) A 964-foot-long gated concrete spillway section equipped with twenty-three 30-foot-wide by 15-foot-high timber faced radial lift gates, and three 30-foot-wide by 25-foot-high steel faced radial gates; (2) a 14-mile-long 5,850-acre reservoir at normal pool elevation 312 feet msl; (3) two powerhouses, which include: (a) The original 449-foot-long concrete powerhouse with a total rated capacity of 20 MW and b) a new 300-foot-long concrete powerhouse with a total rated capacity of 150 MW; (4) a total of 124 trashracks located at the turbine intakes with 6-inch bar spacing; (5) a substation; and (6) other appurtenances. The project annually generates an estimated 527,666 MWh of energy.

Jordan Development

The Jordan development consists of: (1) A total of 2,066 feet of water retaining structures, which includes a 125-foot-high concrete dam and gated spillway, and integrated powerhouse consisting of: (a) A 75-foot-long non-overflow concrete bulkhead, (b) a 246-foot-long concrete intake section, (c) a 1330-foot-long gated concrete spillway equipped with eighteen 34-foot-wide by 8-foot-high radial lift gates, and seventeen 30-foot-wide by 18-foot-high vertical lift gates, and (d) a 177-foot-long non-overflow concrete bulkhead; (2) an 18-mile-long, 5,880-acre reservoir at normal pool elevation 252 feet msl; (3) a 300-foot-long concrete power house with a total rated capacity of 100 MW; (4) four trashracks located at the turbine intakes with 4-inch bar spacing; (5) a substation; and (6) other appurtenances. The project annually generates an estimated 148,543 MWh of energy.

Bouldin Development

The Bouldin development consists of: (1) A total of 9,428 feet of water retaining structures, which includes a 210-foot-high concrete dam, a powerhouse integrated with the project intake, and two earthen embankments consisting of: (a) A 2,200-foot-long earth embankment to the left of the intake, (b) a 228-foot-long concrete intake section equipped with three 40-foot-wide by 35.5-foot-high Tainter gates, and (c) a 7,000-foot-long earth embankment to the right of the intake; (2) a 3-mile-long, 920-acre intake canal at normal pool elevation 252 feet msl; (3) a 228-foot-long concrete powerhouse with a total rated capacity of 225 MW; (4) sixty-three trashracks located at the turbine intakes with 6-inch bar spacing; (5) a substation; and (6) other appurtenances. The project annually generates an estimated 822,000 MWh of energy.

m. A copy of the application is available for review at the Commission in the Public Reference Room or may be viewed on the Commission's Web site at http://www.ferc.gov using the “eLibrary” link. Enter the docket number, excluding the last three digits in the docket number field, to access the document. For assistance, contact FERC Online Support at FERCOnlineSupport@ferc.gov or toll-free at 1-866-208-3676, or for TTY, 202-502-8659. A copy is also available for inspection and reproduction at the address in item h above.

Register online at http://www.ferc.gov/esubscribenow.htm to be notified via e-mail of new filings and issuances related to this or other pending projects. For assistance, contact FERC Online Support.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) Bear in all capital letters the title “PROTEST,” “MOTION TO INTERVENE,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

o. Procedural Schedule:

At this time we do not anticipate the need for preparing a draft environmental assessment. Recipients will have 30 days to provide the Commission with any written comments on the environmental assessment (EA). All comments filed with the Commission will be considered in the Order taking final action on the license applications. However, should substantive comments requiring re-analysis be received on the EA, we will consider preparing a subsequent EA. The application will be processed according to the following revised Hydro Licensing Schedule. Revisions to the schedule may be made as appropriate.

Milestone | Target date
Filing of recommendations, terms and conditions, and prescriptions | (August 2008).
Notice of Availability of the EA (single EA) | (February 2009).

p. Final amendments to the application must be filed with the Commission no later than 30 days from the issuance date of this notice.

Kimberly D. Bose,
Secretary.

[FR Doc. E8-13424 Filed 6-13-08; 8:45 am]

BILLING CODE 6717-01-P